DEPARTMENT OF JUSTICE

Drug Enforcement Administration

[Docket No. DEA-664]

Importer of Controlled Substances Application: VHG Labs DBA LGC Standards

ACTION: Notice of application.

DATES: Registered bulk manufacturers of the affected basic class(es), and applicants therefore, may file written comments on or objections to the issuance of the proposed registration on or before July 15, 2020. Such persons may also file a written request for a hearing on the application on or before July 15, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on May 25, 2020, VHG Labs DBA LGC Standards, 3 Perimeter Road, Manchester, New Hampshire 03103, applied to be registered as an importer of the following basic class(es) of controlled substances:

Controlled substance | Drug code | Schedule
Norfentanyl (N-phenyl-N-(piperidin-4-yl) propionamide) | 8366 | II
Methadone intermediate | 9254 | II
Morphine | 9300 | II
Thebaine | 9333 | II

The company plans to import the listed controlled substances for sale to research facilities for drug testing and analysis. No other activities for these drug codes are authorized for this registration.

William T. McDermott,
Assistant Administrator.

[FR Doc. 2020-12858 Filed 6-12-20; 8:45 am]

BILLING CODE 4410-09-P